DEPARTMENT OF HEALTH AND HUMAN SERVICES

Centers for Disease Control and Prevention

[30Day-15-0981]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Assessing and Evaluating Human Systems Integration Needs in Mining—Reinstatement with Change—National Institute for Occupational Safety and Health (NIOSH), Centers for Disease Control and Prevention (CDC).

Background and Brief Description

The project is aimed at determine the following information with regards to the necessary inclusion of Human Systems Integration into research related to underground coal mining. The project includes two specific aims. The first is to identify underground mining jobs and tasks which suffer from human systems integration breakdown as well as missing information which contributes to a less than optimal situational awareness. The second specific aim is to develop and test interfaces aimed to improve the underground worker's situational awareness.

In order to achieve the goals laid out in the two specific aims, several research instruments were developed. These research instruments have not been modified since the previous approval period. Therefore, all research instruments submitted for the Reinstatement with Change are identical to what was previously approved. The following is a brief description of each of the data collection instruments.

The Direct Observation was designed to identify the tasks and subtasks mine workers perform while working as continuous miner operators and fire bosses. To date, 10 continuous miner operators and four fire bosses have volunteered for this task. Data will be collected from six additional fire bosses.

The General Preference Questionnaire was designed to determine how and when miners working in an underground coal mine prefer to have information about their work environment, the location of themselves, others, and equipment communicated to them while they are working. To date, data has been collected from 50 miners. This questionnaire will be administered to 25 additional miners working in an underground coal mine.

The Subject Matter Expert (SME) Questionnaire was designed to determine how subject matter experts (e.g., experienced continuous miner operators) prefer to have information about their work environment, the location of themselves, others and equipment communicated to them while they are working. The questionnaire has been administered to 14 miners working in an underground coal mine. All miners who have completed the questionnaire so far have worked as continuous miner operators. An additional 36 mine workers will be invited to complete the questionnaire, those invited will work in one of two positions: Continuous miner operator or fire boss.

The Safety Director Questionnaire was designed to determine what machinery and equipment is currently being used within the underground coal mining environment. This questionnaire will be administered to up to 50 Safety Directors working at an underground mining operation.

Vest Usability Testing was designed to examine the effectiveness and viability of physically integrating equipment. This will be done by asking a group of miners to wear mining vests during their normal work hours and complete a questionnaire before and after the vest wearing period. Approximately 60 underground coal miners will be asked to take part in Vest Usability Testing.

The Roof Bolter Questionnaire will be used to assess the functional lighting needs and problems around roof bolting machines and the usability of a lighting feedback system for specific controls. Approximately 30 Roof Bolter Operators will be asked to complete the Roof Bolter Questionnaire (half before the intervention and half after).

There are no costs to the miners as study participation will take place during their normal working hours. Thus, any cost associated with the experiment will be incurred by the mining company. The total estimated annual burden hours are 334.

Estimated Annualized Burden Hours
Type of respondent | Form name | Number of respondents | Number responses per respondent | Average burden per response (in hours)
Mine Employee | Informed Consent | 207 | 1 | 5/60
Mine Employee | Talent Waiver | 207 | 1 | 2/60
Mine Employee | Demographic Questionnaire | 207 | 1 | 2/60
Mine Employee | Task and Cognitive Task Analyses: Continuous Miner Operator | 10 | 1 | 2
Mine Employee | Task and Cognitive Task Analyses: Fire Boss | 10 | 1 | 2
Mine Employee | Direct Observation: Fire Boss | 6 | 1 | 4
Mine Employee | General Preference Questionnaire | 25 | 1 | 30/60
Mine Employee | Subject Matter Expert Questionnaire | 36 | 1 | 1
Mine Employee | Safety Director Questionnaire | 50 | 1 | 30/60
Mine Employee | Roof Bolter Questionnaire | 30 | 2 | 15/60
Mine Employee | Vest Usability Testing | 60 | 2 | 45/60
Mine Employee | Focus Groups | 30 | 1 | 1
Mine Employee | Lab Experiments | 30 | 1 | 1

Leroy A. Richardson,
Chief, Information Collection Review Office, Office of Scientific Integrity, Office of the Associate Director for Science, Office of the Director, Centers for Disease Control and Prevention.

[FR Doc. 2015-24680 Filed 9-28-15; 8:45 am]

BILLING CODE 4163-18-P